DEPARTMENT OF ENERGY

Federal Energy Regulatory Commission

[Docket No. EL10-38-000]

Kentucky Municipal Power Agency and Owensboro Municipal Utilities, Complainants v. E.ON U.S. LLC, Respondent; Notice of Complaint

February 2, 2010.

Take notice that on January 29, 2010, pursuant to section 206 of the Rules and Practice and Procedure of the Federal Energy Regulatory Commission, 18 CFR 385.206 and section 206 of the Federal Power Act, 16 U.S.C. 824(e), Kentucky Municipal Power Agency and Owensboro Municipal Utilities (Complainants) filed a formal complaint against E.ON U.S. LLC (Respondent) requesting the Commission to either reject the Respondent's proposed tariff change filed on November 20, 2009 in Docket ER10-295-000 or suspend it and set it for hearing, in addition to finding that the Respondent's business practice of rounding loses up, but not down to the next whole MW is unreasonable.

The Complainants state that a copy of the complaint has been served on addressees on the official service list for Docket No. ER10-295. There was no official listed for the Respondent itself on the Commission's list of Corporate Officials. The complaint was served on those listed for its affiliate LG&E Energy Corp.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on February 18, 2010.

Kimberly D. Bose,
Secretary.

[FR Doc. 2010-2722 Filed 2-8-10; 8:45 am]

BILLING CODE 6717-01-P